DEPARTMENT OF HEALTH AND HUMAN SERVICES

Food and Drug Administration

[Docket No. 98F-1193]

Troy Corporation; Withdrawal of Food Additive Petition

AGENCY: Food and Drug Administration, HHS.

ACTION: Notice.

SUMMARY: The Food and Drug Administration (FDA) is announcing the withdrawal, without prejudice to a future filing, of a food additive petition (FAP 7B4533) proposing that the food additive regulations be amended to provide for the safe use of 3-iodo-2-propynyl butyl carbamate as a fungicidal additive for wood products intended to contact food.

FOR FURTHER INFORMATION CONTACT: Mark A. Hepp, Center for Food Safety and Applied Nutrition (HFS-215), Food and Drug Administration, 200 C St. SW., Washington, DC 20204, 202-418-3098.

SUPPLEMENTARY INFORMATION: In a notice published in the Federal Register of December 24, 1998 (63 FR 71295), FDA announced that a food additive petition (FAP 7B4533) had been filed by Troy Corporation, c/o S.L. Graham & Associates, 1801 Peachtree Lane, Bowie, MD 20721. The petition proposed to amend the food additive regulations in § 178.3800 Preservatives for wood (21 CFR 178.3800) to provide for the safe use of 3-iodo-2-propynyl butyl carbamate as a fungicidal additive for wood products intended to contact food. Troy Corporation has now withdrawn the petition without prejudice to a future filing (21 CFR 171.7).

Dated: July 26, 2000.
Alan M. Rulis,
Director, Office of Premarket Approval, Center for Food Safety and Applied Nutrition.

[FR Doc. 00-21057 Filed 8-17-00; 8:45 am]

BILLING CODE 4160-01-F